DEPARTMENT OF TRANSPORTATION

Federal Aviation Administration

Public Notice for Waiver of Aeronautical Land-Use Assurance; Mansfield Lahm International Airport, Mansfield, OH

AGENCY: Federal Aviation Administration, DOT.

ACTION: Notice of intent of waiver with respect to land.

SUMMARY: The Federal Aviation Administration (FAA) is considering a proposal to change a portion of the airport from aeronautical use to non-aeronautical use and to authorize the sale of the airport property. The proposal consists of the sale of two areas adjacent to one another of vacant land with few trees remaining along old property lines and at the edge of the approach surface, and owned by the City of Mansfield. The Parcels (#47 and 0-1) is approximately 21.571 acres. There are no impacts to the airport by allowing the airport to dispose of the property. The proposed land for release is vacant and not required for future airport development. The intended land use is for the expansion of the Gorman-Rupp Company along Harrington Memorial Road. Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before October 20, 2008.

FOR FURTHER INFORMATION CONTACT: Stephanie Swann, Program Manager, Detroit Airports District Office, 11677 South Wayne Road, Suite 107, Romulus, Michigan 48174. Telephone Number: (734) 229-2945/FAX Number: (734) 229-2950. Documents reflecting this FAA action may be reviewed at this same location or at Mansfield Lahm International Airport, Mansfield, Ohio.

SUPPLEMENTARY INFORMATION: Following is a legal description of both properties situated in the State of Ohio, County of Richland, City of Mansfield, located in the Northeast Quarter of Section 3, Township 21 North, Range 18 West, and described as follows:

(Legal Description of Property).

Parcel 0-1

Beginning at a concrete monument found at the Southwest corner of said Northeast Quarter of Section 3, said being the Northeasterly corner of a parcel of land now owned by The Gorman-Rupp Company of record in Official Record Volume 514, Page 50;

Thence North 01°28′00″ West, a distance of 1270.74 feet along the westerly line of said Northeast Quarter of Section 3, to a concrete monument found on the Southerly right-of-way line of Airport Road South;

Thence the following two (2) courses and distances along and southerly right-of-way line of Airport Road South:

1. Thence North 89°01′07″ East, a distance of 10.88 feet to an iron pin;

2. Thence South 66°22′53″ East, a distance of 29.86 feet to a point at the northwesterly center of the 4.586 acre tract (clear zone);

Thence South 34°30′27″ East, a distance of 1133.89 feet along the southwesterly line of said 4.586 acre tract to a point on a curve in the westerly right-of-way line of State Route 13, at the southerly corner of said 4.586 acre tract;

Thence along said westerly right-of-way line of State Route 13, with a curve to the right, having a radius of 2850.96 feet, a central angle of 06°29′06″ an arc length of 322.68 feet, the chord to which bears South 16°45′09″ West, a chord distance of 322.51 feet to an iron pin;

Thence South 88°25′00″ West, a distance of 555.32 feet to the Point of Beginning, containing 11.870 acres, more or less, being subject to all legal highways and easements of record.

Parcel 47

Being known as a part of the Northwest Quarter of Section No. 3, Township 21 North, Range 18 West and more fully described as follows:

Commencing at a concrete monument found at the Southeast corner of the Northwest Quarter of Section No. 3, said concrete monument also being at the Southeast corner of a parcel of land now owned by The Gorman-Rupp Company, as recorded in Official Record Volume 517, Page 79 of the Richland County Deed Records;

Thence North 01°28′00″ West, along the East Line of the Northwest Quarter of Section No. 3 and passing thru an iron pin found at 323.58 feet, a total distance of 423.58 feet to an iron pin found at the Northeast corner of the right-of-way for Rupp Avenue, said iron pin also being the true place of beginning of the parcel herein described;

Thence South 88°29′32″ West, along the North right-of-way line of Rupp Avenue, a distance of 100.00 feet to an iron pin found;

Thence South 01°28′00″ East, along the right-of-way line of Rupp Avenue, a distance of 20.00 feet to an iron pin found;

Thence South 88°29′32″ West, along the North right-of-way line of Rupp Avenue, a distance of 848.64 feet to an iron pin set, said iron pin also being at the Southwest corner of a parcel of land now owned by Milark Industries, Inc., as recorded in Official Record Volume 306, Page 179 of the Richard County Deed Records;

Thence North 01°28′00″ West, along the East line of said Milark Industries, Inc., lands a distance of 418.98 feet to an iron pin set;

Thence North 88°29′32″ East, a distance of 938.94 feet to an iron pin set, said iron pin also being on the East line of the Northwest Quarter of Section No. 3;

Thence South 01°28′00″ East, along the East line of said Northwest Quarter, a distance of 399.10 feet to the true place of beginning, containing 9.029 acres, but subject to all legal highways and easements of record.

Issued in Romulus, Michigan, on August 13, 2008.
Matthew J. Thys,
Manager, Detroit Airports District Office, FAA, Great Lakes Region.

[FR Doc. E8-21806 Filed 9-18-08; 8:45 am]

BILLING CODE 4910-13-M